DEPARTMENT OF COMMERCE

National Oceanic and Atmospheric Administration

RIN 0648-XY97

Endangered and Threatened Species; Take of Anadromous Fish

AGENCY: National Marine Fisheries Service (NMFS), National Oceanic and Atmospheric Administration (NOAA), Commerce.

ACTION: Applications for three new scientific research permits.

SUMMARY: Notice is hereby given that NMFS has received three scientific research permit application requests relating to Pacific salmon. The proposed research is intended to increase knowledge of species listed under the Endangered Species Act (ESA) and to help guide management and conservation efforts. The applications may be viewed online at: https://apps.nmfs.noaa.gov/preview/preview_open_for_comment.cfm

DATES: Comments or requests for a public hearing on the applications must be received at the appropriate address or fax number (see ADDRESSES) no later than 5 p.m. Pacific standard time on October 18, 2010.

ADDRESSES: Written comments on the applications should be sent to the Protected Resources Division, NMFS, 1201 NE Lloyd Blvd., Suite 1100, Portland, OR 97232-1274. Comments may also be sent via fax to 503-230-5441 or by e-mail to nmfs.nwr.apps@noaa.gov.

FOR FURTHER INFORMATION CONTACT: Garth Griffin, Portland, OR (ph.: 503-231-2005, Fax: 503-230-5441, e-mail: Garth.Griffin@noaa.gov). Permit application instructions are available from the address above, or online at apps.nmfs.noaa.gov.

SUPPLEMENTARY INFORMATION:

Species Covered in This Notice

The following listed species are covered in this notice:

Chinook salmon (Oncorhynchus tshawytscha): threatened Puget Sound (PS).

Steelhead (O. mykiss): threatened PS, threatened middle Columbia River (MCR).

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 15549

The Columbia River Inter-Tribal Fish Commission (CRITFC) is seeking a five-year permit to expand on and extend work previously conducted under Permit 1532. They wish to take juvenile steelhead during the course of research designed to determine the fishes' freshwater movements and how those movements are affected by the area's substantially altered hydrograph. They would also collect baseline information on stock status. The research would take place in Satus, Ahtanum, Naches, and Toppenish Creeks, Washington.

The fish would be captured using screw traps and bacckpack electrofishing equipment. They would then be anesthetized and measured. Some would be tissue-sampled and some would receive passive integrated transponder (PIT) tags. The information gathered would be used to determine the fishes' movements and abundance and monitor the ongoing status of the various MCR steelhead populations in the Yakima River subbasin. The research would benefit the fish by helping managers determine the effectiveness of current recovery measures and design new ones where needed. The CRITFC does not plan to kill any of the fish being captured, but a few may die as an unintentional result of the research

Permit 15582

The City of Bothell (COB) in northwestern Washington State is seeking a new 5-year permit to take juvenile PS Chinook and steelhead while conducting research designed to provide information on the condition of fish populations in the waters around the city. The purpose of the research is to provide information that will help the COB prioritize and direct habitat restoration actions. The information gathered by this research would benefit the fish by helping the COB (a) protect important salmonid habitat and (b) measure its compliance with their Federal National Pollutant Discharge Elimination System permit and the Clean Water Act. The COB is seeking to capture fish (using backpack electrofishing equipment), anesthetize them, measure them, allow them to recover from the anesthesia, and release them. No listed fish are expected to die during these activities.

Permit 15695

The Western Washington University (WWU) is seeking a new 3-year permit to take juvenile PS Chinook and steelhead while conducting research designed to (1) investigate the effects of hypoxia (decreased levels of oxygen in water) on fish abundance and distribution; (2) determine spatial and temporal variations in hypoxia in the Nooksack River basin; and (3) investigate the dominant mechanisms causing hypoxia in northwestern streams. The research is designed to provide information about the life history and habitat requirements for suckers and threatened salmonids and thus would benefit listed fish by enhancing the effectiveness of watershed management and conservation policies. The WWU is seeking to capture fish (using minnow traps), identify and enumerate them, and release them. No listed fish are expected to die during these activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: September 13, 2010.
Therese Conant,
Acting Chief, Endangered Species Division, Office of Protected Resources, National Marine Fisheries Service.

[FR Doc. 2010-23269 Filed 9-16-10; 8:45 am]

BILLING CODE 3510-22-S